DEPARTMENT OF LABOR

Employment and Training Administration

[TA-W-61,157 and TA-W-61,157A]

Visteon Systems, LLC, Climate Control Division, Evaporators, Connersville, IN; Visteon Systems, LLC, Climate Control Division, Radiator/Heat Exchange, Connersville, IN; Including On-Site Leased Workers From CDI-IT Services and Synova, Employed Through IBM Corporation, Securitas Security Services USA, Inc., Premier Mfg. Services, Kleenaway Services, Waste Management Upstream, PMI, Inc., Coolant Controls and Pitney Bowes; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on April 23, 2007, applicable to workers of Visteon Systems, LLC, Climate Control Division, Evaporators, Connersville, Indiana and Visteon Systems, LLC Climate Control Division Radiator/Heat Exchange, Connersville, Indiana. The notice was published in the Federal Register on May 9, 2007 (72 FR 26424).

At the request of the State agency, the Department reviewed the certification for workers of the subject firm. The workers are engaged in the production of evaporators and radiators/heat exchanges for the automotive industry.

The investigation revealed that the leased workers of the above listed firms were contracted to work on-site at the Connersville, Indiana location of Visteon Systems, LLC Climate Control Division. These workers provided a variety of functions supporting the production of evaporators and radiator/heat exchange units manufactured at the subject firm. The Department has determined that the above listed on-site worker groups are in support of the production of evaporators and radiator/heat exchange units at the subject firm and are sufficiently under the control of the subject firm.

Since the workers of Visteon Systems, LLC, Climate Control Division, Evaporators and Radiator/Heat Exchange, Connersville, Indiana are certified eligible to apply for ATAA, the Department is extending that eligibility to the employees of the above listed firms working on-site at the subject firm.

The intent of the Department's certification is to include all workers employed at Visteon Systems, LLC, Climate Control Division, Evaporators and Radiator/Heat Exchange, Connersville, Indiana who were adversely affected by a shift in production to Mexico.

The amended notice applicable to TA-W-61,157 is hereby issued as follows:

Workers of Visteon Systems, LLC, Climate Control Division, Evaporators, Connersville, Indiana (TA-W-61,157) and Visteon Systems, LLC Climate Control Division, Radiator/Heat Exchange, Connersville, Indiana (TA-W-61,157A), including on-site leased workers from CDI-IT Services and Synova, employed through IBM Corporation, Securitas Security Services USA, Inc., Premier Mfg. Services, KleenAway Services, Waste Management Upstream, PMI, Inc., and Pitney Bowes, who became totally or partially separated from employment on or after March 19, 2006 through April 23, 2009, are eligible to apply for adjustment assistance under Section 223 of the Trade Act of 1974, and are also eligible to apply for alternative trade adjustment assistance under Section 246 of the Trade Act of 1974.

Signed at Washington, DC, this 29th day of June 2007.
Linda G. Poole,
Certifying Officer, Division of Trade Adjustment Assistance.

[FR Doc. E7-13174 Filed 7-6-07; 8:45 am]

BILLING CODE 4510-FN-P